ENVIRONMENTAL PROTECTION AGENCY

[FRL-7774-3]

EPA Science Advisory Board Staff Office; Annual Request for Nomination of Members for the EPA Science Advisory Board, Clean Air Scientific Advisory Committee, and the Advisory Council on Clean Air Compliance Analysis

AGENCY: Environmental Protection Agency (EPA).

ACTION: Notice.

SUMMARY: The U.S. Environmental Protection Agency's Science Advisory Board (SAB) Staff Office is soliciting nominations for Members to serve on the EPA Science Advisory Board (SAB), the Clean Air Scientific Advisory Committee (CASAC), and the Advisory Council on Clean Air Compliance Analysis (COUNCIL). Individuals responding to this annual request for nominations will be considered for membership vacancies on these three Congressionally mandated Federal advisory committees. This process supplements other efforts to identify qualified candidates.

DATES: Nominations should be submitted in time to arrive no later than July 19, 2004.

FOR FURTHER INFORMATION CONTACT: To submit a hard copy of the form noted below (for those unable to submit the information in electronic form), please contact Ms. Patricia L. Thomas, U.S. EPA SAB Staff Office (Mail Code 1400F), 1200 Pennsylvania Avenue, NW., Washington, DC 20460 (FedEx/Courier address: U.S. EPA SAB, Suite 3600, 1025 F Street, NW., Washington DC 20004), (202) 343-9974 (tel.), (202) 233-0643 (fax), or via email at thomas.patricial@epa.gov.

For general information on the nomination process, see the SAB Staff Office report entitled, “Implementation Plan for the New Structural Organization of the Science Advisory Board” on the SAB Web Site at: http://www.epa.gov/sab/pdf/sab04002.pdf. Specific inquiries regarding the nomination process can be directed to Dr. Anthony Maciorowski, Associate Director for Science, U.S. EPA SAB Staff Office, (202) 343-9983 (tel.), or via email at: maciorowski.anthony@epa.gov.

Background: The SAB (42 U.S.C. 4365), CASAC (42 U.S.C. 7409) and COUNCIL (42 U.S.C. 7612) are chartered Federal Advisory Committees that report directly to the EPA Administrator. The mission of these Federal advisory committees, as established by statute, is to provide independent scientific and technical peer review advice, consultation, and recommendations to the EPA Administrator on the technical bases for EPA actions. Additional information about these Federal Advisory Committees can be obtained on the SAB Web Site at: http://www.epa.gov/sab.

Expertise Sought: The SAB Staff Office is seeking nominations for nationally and internationally recognized non-EPA scientists, engineers, economists, and social scientists with demonstrated research and applied scientific experience and expertise in various disciplinary areas that address ecological and/or environmental/public health challenges, a multitude of stressors (e.g., physical, biological and chemical agents and mixtures) impacting environmental media (e.g., air, water, land), monitoring and characterizing sources of pollution, assessing risk to ecosystem and/or human health, prevention and risk management technologies, risk communication, environmental data quality, assessing environmental social economic values and cost-benefit analyses.

The selected experts will be considered for public service on the CASAC, COUNCIL, or the SAB and its subcommittees (including the Drinking Water Committee, Ecological Processes and Effects Committee, Environmental Economics Advisory Committee, Environmental Engineering Committee, Environmental Health Committee, Integrated Human Exposure Committee, and Radiation Advisory Committee).

How to Apply: Any interested person or organization may nominate qualified persons to serve on the CASAC, COUNCIL, or SAB. Individuals may self-nominate. Nominees should be qualified by scientific education, training, and experience to evaluate scientific, engineering and/or economics information on issues referred to and addressed by the committees. Successful nominees have distinguished themselves professionally and should be available to invest the time and effort to advance the cause of the supporting the use of good science through the efforts of the SAB. Nominations should be submitted in electronic format (which is preferred over hard copy) through the Form for Nominating Individuals to Panels of the EPA Science Advisory Board provided on the SAB Web site. The form can be accessed through a link on the blue navigational bar on the SAB Web site at: http://www.epa.gov/sab. To be considered, all nominations should include the information requested on that form.

The nominating form requests contact information about the person making the nomination; contact information about the nominee; the disciplinary and specific areas of expertise of the nominee; the nominee's resume; and a general biosketch of the nominee indicating education, expertise, past research, recent service on other advisory committees or with professional associations, and recent grant and/or contract support. Persons who are unable to submit nominations through the SAB Web site should contact Ms. Patricia L. Thomas, as indicated above in this notice. Non-electronic submissions must follow the same format and contain the same information as the electronic form. The SAB Staff Office will acknowledge receipt of nominations.

The SAB Staff Office seeks the inclusion of nominees who possess the necessary domains of knowledge, the relevant scientific perspectives (which, among other factors, can be influenced by work history and affiliation), and the collective breadth of experience to adequately address the issues facing the Agency. Specific criteria to be used in evaluating potential Members include: (a) Scientific and/or technical expertise, knowledge, and experience (primary factors); (b) absence of financial conflicts of interest; (c) scientific credibility and impartiality; (d) availability and willingness to serve; and (e) ability to work constructively and effectively in committees.

During the selection process, nominees will be required to submit the “Confidential Financial Disclosure Form for Special Government Employees Serving on Federal Advisory Committees at the U.S. Environmental Protection Agency” (EPA Form 3110-48). This confidential form allows Government officials to determine whether there is a statutory conflict between that person's public responsibilities as a Special Government Employee and private interests and activities, or the appearance of a lack of impartiality, as defined by Federal regulation. The form may be viewed and downloaded from the following URL address: http://www.epa.gov/sab/pdf/epaform3110-48.pdf. This form should not be submitted as part of a nomination.

Dated: June 10, 2004.
Vanessa T. Vu,
Director, EPA Science Advisory Board Staff Office.

[FR Doc. 04-13687 Filed 6-16-04; 8:45 am]

BILLING CODE 6560-50-P